FEDERAL COMMUNICATIONS COMMISSION

47 CFR Part 12

[PS Docket Nos. 13-75, 11-60; FCC 13-158]

Improving 9-1-1 Reliability; Reliability and Continuity of Communications Networks, Including Broadband Technologies

AGENCY: Federal Communications Commission.

ACTION: Final rule; announcement of effective date.

SUMMARY: In this document, the Commission announces that the Office of Management and Budget (OMB) has approved, for a period of three years, an information collection associated with the Commission's Report and Order, FCC 13-158, published at 79 FR 3123 on January 17, 2014, and at 79 FR 7589 on February 10, 2014. This notice is consistent with the Report and Order, which stated that the Commission would publish a document in the Federal Register announcing OMB approval and the effective date of requirements subject to OMB approval. Specifically, this document announces the effective date of initial and annual reliability certification requirements for covered 911 service providers, including any associated record retention requirements.

DATES: 47 CFR 12.4(c), 12.4(d)(1), and 12.4(d)(3) are effective October 15, 2014. The effective date of 47 CFR 4.9(h), which requires a modification of existing OMB information collection 3060-0484, will be published separately in the Federal Register once approved by OMB.

FOR FURTHER INFORMATION CONTACT: For additional information contact Cathy Williams, Cathy.Williams@fcc.gov, (202) 418-2918.

SUPPLEMENTARY INFORMATION: This document announces that, on October 1, 2014, OMB approved information collection requirements contained in the Commission's Report and Order, FCC 13-158, Improving 9-1-1 Reliability; Reliability and Continuity of Communications Networks, Including Broadband Technologies, published at 79 FR 3123 on January 17, 2014 and at 79 FR 7589 on February 10, 2014. These requirements involve initial and annual reliability certifications for covered 911 service providers and associated record retention requirements. The OMB Control Number is 3060-1202. The Commission publishes this notice as an announcement of the effective date of the certification requirements.

The Report and Order also amended § 4.9 of the Commission's rules regarding outage notification to public safety answering points (PSAPs). The effective date of 47 CFR 4.9(h), which requires a modification of existing OMB information collection 3060-0484, will be published separately in the Federal Register once approved by OMB.

If you have any comments on the burden estimates listed below, or how the Commission can improve the collections and reduce any burdens caused thereby, please contact Cathy Williams, Federal Communications Commission, Room 1-C823, 445 12th Street SW., Washington, DC 20554. Please include the OMB Control Number, 3060-1202, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on October 1, 2014, for new information collection requirements contained in the Commission's rules at 47 CFR 12.4(c), 12.4(d)(1), and 12.4(d)(3). Under 5 CFR 1320, an agency may not conduct or sponsor a collection of information unless it displays a current, valid OMB Control Number. No person shall be subject to any penalty for failing to comply with a collection of information subject to the Paperwork Reduction Act that does not display a current, valid OMB Control Number. The OMB Control Number is 3060-1202. The foregoing notice is required by the Paperwork Reduction Act of 1995, Pub. L. 104-13, October 1, 1995, and 44 U.S.C. 3507.

The total annual reporting burdens and costs for the respondents are as follows:

OMB Control Number: 3060-1202.

OMB Approval Date: October 1, 2014.

OMB Expiration Date: October 31, 2017.

Title: Improving 9-1-1 Reliability, Reliability and Continuity of Communications Including Networks, Broadband Technologies.

Form Number: Not applicable (annual online certification).

Respondents: Business or other for-profit entities; not-for-profit institutions.

Number of Respondents and Responses: 1,000 respondents, 1,000 responses.

Estimated Time per Response: Varies by respondent. Average of 170 hours per annual certification.

Frequency of Response: Annual reporting requirement and recordkeeping requirement.

Obligation to Respond: Mandatory. The statutory authority for the collection of this information is contained in sections 1, 4(i), 4(j), 4(o), 201(b), 214(d), 218, 251(e)(3), 301, 303(b), 303(g), 303(r), 307, 309(a), 316, 332, 403, 615a-1, and 615c of the Communications Act of 1934, as amended, 47 U.S.C. 151, 154(i)-(j) & (o), 201(b), 214(d), 218, 251(e)(3), 301, 303(b), 303(g), 303(r), 307, 309(a), 316, 332, 403, 615a-1, and 615c.

Total Annual Burden: 169,982 hours.

Total Annual Cost: $0.

Nature and Extent of Confidentiality: The Commission will treat as presumptively confidential and exempt from routine public disclosure under the federal Freedom of Information Act: (1) Descriptions and documentation of alternative measures to mitigate the risks of nonconformance with certification standards; (2) information detailing specific corrective actions taken; and (3) supplemental information requested by the Commission or Bureau with respect to a certification. The Commission does not consider confidential the fact of filing a certification or the responses provided on the face of the certification.

Privacy Impact Assessment: No impact(s).

Needs and Uses: On December 12, 2013, the Commission released a Report and Order, PS Docket Nos. 13-75, 11-60; FCC 13-158 (the Report and Order) adopting rules. These rules are codified at 47 CFR 12.4. The Report and Order requires covered 911 service providers, defined in § 12.4(a)(4), to certify annually whether they comply with specified best practices with respect to critical 911 circuit diversity, central office backup power, and diverse network monitoring. If a covered 911 service provider does not comply with specific certification elements set forth in § 12.4(c), it must provide a brief explanation of what alternative measures it has taken, in light of the provider's particular facts and circumstances, to ensure reliable 911 service with respect to those elements. A service provider may also respond by demonstrating that a particular certification element is not applicable to its network, but must include a brief explanation of why the element does not apply.

The information will be collected through an online system administered by the Commission's Public Safety and Homeland Security Bureau for review and analysis to verify that covered 911 service providers are taking reasonable measures to maintain reliable 911 service, as required under § 12.4(b). In certain cases, based on the information included in the certifications and on subsequent coordination with individual providers, the Commission may require remedial action to correct vulnerabilities in a service provider's 911 network if it determines that the service provider has not, in fact, adhered to the best practices incorporated in the certification, or in the case of providers employing alternative measures, that those measures were not reasonably sufficient to mitigate the associated risks of failure in these key areas.

The purpose of this information collection is to verify that covered 911 service providers are taking reasonable measures to provide reliable service, as evidenced by their certification of compliance with specified best practices or reasonable alternative measures. The Commission adopted these rules in light of widespread 911 outages during the June 2012 derecho storm in the Midwest and Mid-Atlantic states, which revealed that multiple service providers did not take adequate precautions to maintain reliable service. By holding covered 911 service providers accountable for reliable service, the Commission seeks to ensure that all Americans have access to critical 911 communications during emergencies and other times of need.

Federal Communications Commission.
Marlene H. Dortch,
Secretary.

[FR Doc. 2014-24474 Filed 10-14-14; 8:45 am]

BILLING CODE 6712-01-P